DEPARTMENT OF HOUSING AND URBAN DEVELOPMENT

[Docket No. FR-5288-N-09]

Notice of Proposed Information Collection for Public Comment; Recovery Act Application for the Community Development Block Grant Program for Indian Tribes and Alaska Native Villages (ICDBG)

AGENCY: Office of Public and Indian Housing, HUD.

ACTION: Notice.

SUMMARY: The proposed information collection requirement described below will be submitted to the Office of Management and Budget (OMB) for review, as required by the Paperwork Reduction Act. The Department is soliciting public comments on the subject proposal.

DATES: Comments Due Date: November 23, 2009.

ADDRESSES: Interested persons are invited to submit comments regarding this proposal. Comments should refer to the proposal by name or OMB Control Number and should be sent to: Lillian L. Deitzer, Department Reports Management Officer, ODAM, Department of Housing and Urban Development, 451 7th Street, SW., Room 4116, Washington, DC 20410-5000; telephone: 202-708-2374, (this is not a toll-free number) or e-mail Ms. Deitzer at Lillian.L.Deitzer@HUD.gov for a copy of the proposed form and other available information.

FOR FURTHER INFORMATION CONTACT: Dacia Rogers, Office of Policy, Programs and Legislative Initiatives, PIH, Department of Housing and Urban Development, 451 Seventh Street, SW., Washington, DC 20410; telephone: 202-708-0713, (this is not a toll-free number).

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Recovery Act Reporting for the Community Development Block Grant Program for Indian Tribes and Alaska Native Villages (ICDBG).

OMB Control Number: 2577-0263.

Description of Information Collection: The ICDBG Recovery Act Grant Program for Indian tribes and Alaska Native villages is a one-time grant program available in fiscal year 2009 in addition to the regular ICDBG funding competition. This program required eligible applicants to submit information to enable HUD to select the best projects for funding during the one-time competition. The collection of this information is essential for HUD to monitor grants and ensure that grantees are making proper use of federal funding. ICDBG funds are used for the development of viable Indian and Alaska Native communities, including the creation of decent housing, suitable living environments and economic opportunities primarily for persons with low and moderate incomes as defined in 24 CFR 1003.4. The Recovery Act requires that, in selecting ICDBG projects to be funded, priority shall be given to projects that can award contracts based on bids within 120 days from the date the funds are made available to the recipients. The ICDBG program regulations require that quarterly and annual reports be submitted. In addition, the Recovery Act requires the collection of additional information for reporting purposes. The ICDBG program regulations can be found in 24 CFR Part 1003.

Agency form number, if applicable: SF-269 (to be replaced by SF-425 effective 10/1/2009)

Members of affected public: State, Local or Tribal Government.

Estimation of the total number of hours needed to prepare the information collection including number of respondents: The estimated total number of burden hours needed to prepare the information collection is 1463; the number of respondents is 19; the frequency of response for each form varies from quarterly and annually.

Status of the proposed information collection: Revision of a Currently Approved Collection.

Authority: Section 3506 of the Paperwork Reduction Act of 1995, 44 U.S.C. Chapter 35, as amended.

Dated: September 17, 2009.
Bessy Kong,
Deputy Assistant Secretary for Policy, Programs, and Legislative Initiatives.

[FR Doc. E9-22966 Filed 9-22-09; 8:45 am]

BILLING CODE 4210-67-P